DEPARTMENT OF ENERGY

Federal Energy Regulatory Commission

[Docket No. CP05-388-000; CP06-1-000]

Southern Natural Gas Company; Florida Gas Transmission Company; Notice of Availability of the Final Environmental Impact Statement for the Proposed Cypress Pipeline Project and Phase VII Expansion Project

April 7, 2006.

The staff of the Federal Energy Regulatory Commission (Commission or FERC) has prepared a final environmental impact statement (EIS) on the natural gas pipeline facilities proposed by Southern Natural Gas Company (Southern) and Florida Gas Transmission Company (FGT) in the above-referenced dockets. Southern's Cypress Pipeline Project would be located in various counties in southern Georgia and northern Florida. FGT's Phase VII Expansion Project (FGT Expansion Project) would be located in various counties in northern and central Florida.

The final EIS was prepared to satisfy the requirements of the National Environmental Policy Act (NEPA). The FERC staff concludes that the proposed projects, with the appropriate mitigation measures as recommended, would have limited adverse environmental impact.

The U.S. Army Corps of Engineers (COE) has participated as a cooperating agency in the preparation of the EIS because the projects would require permits pursuant to section 404 of the Clean Water Act (33 United States Code (U.S.C.) 1344) and section 10 of the Rivers and Harbors Act (33 U.S.C. 403). The COE would adopt the EIS per Title 40 Code of Federal Regulations Part 1506.3 if, after an independent review of the document, it concludes that its comments and suggestions have been satisfied.

The final EIS addresses the potential environmental effects of the construction and operation of the following facilities:

Cypress Pipeline Project

• About 166.9 miles of new 24-inch-diameter mainline pipeline (mainline) in Effingham, Chatham, Bryan, Liberty, Long, McIntosh, Glynn, Camden, and Charlton Counties, Georgia, and Nassau, Duval, and Clay Counties, Florida;

• About 9.8 miles of new 30-inch-diameter pipeline loop (loop) ¹ in Chatham and Effingham Counties, Georgia;

¹ A loop is a segment of pipeline that is usually installed adjacent to an existing pipeline and connected to it at both ends. The loop allows more gas to be moved through the system.

• About 0.1 mile of 12-inch-diameter lateral pipeline in Duval County, Florida;

• Three new 10,350 horsepower (hp) gas-turbine-driven compressor stations in Liberty and Glynn Counties, Georgia, and in Nassau County, Florida;

• Four new meter stations in Glynn County, Georgia, and in Nassau, Duval, and Clay Counties, Florida;

• Modifications at two existing meter stations in Chatham and Cobb Counties, Georgia, and expansion of one meter station in Effingham County, Georgia;

• 16 new block valves including 14 associated with the new mainline and two associated with the new loop; and

• Four new pig ² launcher/receiver facilities, including two in Effingham County, Georgia, one in Glynn County, Georgia, and one in Clay County, Florida, each collocated with new or existing meter stations or new compressor station sites.

² A pig is an internal tool that can be used to clean and dry a pipeline and/or to inspect it for damage or corrosion.

Southern proposes to construct its pipeline facilities in three phases. Construction of Phase I would begin in October 2006 and be in service by May 2007. Construction of Phase II would begin in fall 2008 and be in service by May 2009. Construction of Phase III would begin in fall 2009 and be in service by May 2010.

FGT Phase VII Expansion Project

• About 32.6 miles of new 36-inch-diameter pipeline in three separate loops in Gilchrist, Levy, and Hernando Counties, Florida;

• Replacement and upgrades to existing compressors for a net increase of about 7,800 hp at FGT's Compressor Station no. 26 in Citrus County, Florida;

• Replacement of an existing compressor to add about 2,000 hp at FGT's existing Compressor Station no. 24 in Gilchrist County, Florida;

• Miscellaneous modifications and upgrades to existing compressors with no increases in hp at FGT's Compressor Station nos. 16, 17, and in Bradford, Marion, and Hillsborough Counties, Florida, respectively;

• A new interconnection with Southern's new mainline in Clay County, Florida;

• Modifications to five existing metering and/or regulation stations in Clay, Polk, Bradford, and Duval Counties, Florida; and

• New remote blowdown piping associated with the new pipeline loops at two locations in Levy County and two locations in Hernando County, Florida.

FGT proposes to construct its pipeline facilities in two phases. Construction of Phase I would begin in October 2006 and be in service by May 2007. Phase II is planned to begin in October 2008 and be in service by May 2009.

The final EIS has been placed in the public files of the FERC and the COE and is available for public inspection at:

Federal Energy Regulatory Commission, Public Reference Room, 888 First Street, NE., Room 2A, Washington, DC 20426. 202-502-8371.

U.S. Army Corps of Engineers, Jacksonville District, 701 San Marco Boulevard, Jacksonville, Florida 32207. 904-232-1472.

A limited number of copies are available from the FERC's Public Reference Room identified above. In addition, copies of the final EIS have been mailed to Federal, state, and local government agencies; elected officials; Native American tribes; local libraries and newspapers; intervenors in the FERC's proceeding; individuals who provided scoping comments; and affected landowners and individuals.

In accordance with the Council on Environmental Quality's (CEQ) regulations implementing the NEPA, no agency decision on a proposed action may be made until 30 days after the U.S. Environmental Protection Agency publishes a notice of availability of a final EIS. However, the CEQ regulations provide an exception to this rule when an agency decision is subject to a formal internal appeal process which allows other agencies or the public to make their views known. In such cases, the agency decision may be made at the same time the notice of the final EIS is published, allowing both periods to run concurrently. The Commission's decisions for these proposed actions are subject to a 30-day rehearing period.

Additional information about the projects is available from the Commission's Office of External Affairs, at 1-866-208-FERC (3372) or on the FERC Internet Web site (http://www.ferc.gov). Using the “eLibrary” link, select “General Search” from the eLibrary menu, enter the selected date range and “Docket Number,” excluding the last three digits in the Docket Number field (i.e., CP05-388 and/or CP06-1), and follow the instructions. You may also search using the phrase “Cypress Pipeline Project” or “FGT Phase VII Expansion Project” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Information concerning the involvement of the COE is available from Jon Soderberg at 202-761-7763.

Magalie R. Salas,
Secretary.

[FR Doc. E6-5561 Filed 4-13-06; 8:45 am]

BILLING CODE 6717-01-P